Proclamation 10348 of March 14, 2022

National Equal Pay Day, 2022

By the President of the United States of America

A Proclamation

Equal pay is a matter of justice, fairness, and dignity—it is about living up to our values and who we are as a Nation. For over 25 years, Equal Pay Day has helped draw attention to gender-based pay disparities by highlighting how far into a new year a woman must work, on average, to earn what a man did in the previous year.

This year, Equal Pay Day falls on March 15, the earliest we have ever marked the occasion. The earlier that Equal Pay Day arrives, the closer our Nation has come to achieving pay fairness. But while we should celebrate the progress we have made, as I have said in the past, we should not be satisfied until Equal Pay Day is no longer necessary at all.

In 2020, the average woman working full-time, year-round, for wages or a salary earned 83 cents for every dollar paid to their average male counterpart. And once again, the disparities are even greater for Black, Native American, Latina, and certain subpopulations of Asian women when compared to white men. Disabled women also continue to experience significant disparities and make 80 cents for every dollar compared to men with disabilities. The pay gap reflects outright discrimination as well as barriers that women face in accessing good-paying jobs and meeting caregiving responsibilities—including a lack of affordable child care, paid family and medical leave, and fair and predictable scheduling—which often prevent women from joining and staying in the workforce.

Over the course of a career, the pay gap can add up to hundreds of thousands of dollars in lost earnings, particularly for women of color, significantly impacting retirement savings and uniquely burdening households led by single mothers.

The Biden-Harris Administration has moved quickly to deliver results for women and working families and to dismantle the barriers that women face in the workplace. In our first full year in office, we saw the largest calendar year decline in unemployment. We also saw the strongest economic growth in nearly 4 decades, rising wages, and an estimated nearly 40 percent decline in child poverty. We have turned the tide on women's labor force participation, which the COVID-19 pandemic had pushed to a more than 30-year low. In addition, my Administration has taken key steps to address pay discrimination, including issuing an Executive Order directing the Office of Personnel Management to take appropriate steps to advance equal pay at Federal agencies. And I have raised the minimum wage for Federal contractors, which has significantly benefitted women—especially women of color—who are disproportionately represented in minimum-wage and low-wage jobs.

We can be proud of that progress—but there is more we need to do. My Administration is fighting to ensure that women have the free and fair choice to organize and collectively bargain for the wages and benefits they deserve and to access training for good-paying jobs in sectors where they have historically been underrepresented. We are working to eliminate anticompetitive barriers that keep women from bargaining for better pay and demanding dignity and respect in the workplace. I have continued to call on the Congress to pass the Paycheck Fairness Act, which would help mitigate sex-based pay discrimination while ensuring greater transparency and reporting of disparities in wages. And I am continuing to work with the Congress to pass critical legislation that would lower the cost of child care, elder care, home-based health care, and other major barriers to working families, while raising compensation for care workers, who are disproportionately women of color and who have been underpaid and undervalued for far too long.

If we are going to continue our record-breaking recovery and build a truly strong and competitive economy for the future, we have to address the barriers that have long held women back from full participation and fair treatment in the workforce. The founding promise of our Nation is that all people are created equal—and my Administration is committed to ensuring that all Americans have a fair and equal opportunity to get ahead, so that one day soon we can render Equal Pay Day a relic of the past.

NOW, THEREFORE, I, JOSEPH R. BIDEN JR., President of the United States of America, by virtue of the authority vested in me by the Constitution and the laws of the United States, do hereby proclaim March 15, 2022, as National Equal Pay Day. I call upon all Americans to recognize the full value of women's skills and their significant contributions to the labor force, acknowledge the injustice of wage inequality, and join efforts to achieve equal pay.

IN WITNESS WHEREOF, I have hereunto set my hand this fourteenth day of March, in the year of our Lord two thousand twenty-two, and of the Independence of the United States of America the two hundred and forty-sixth.

[FR Doc. 2022-05797

Filed 3-16-22; 8:45 am]

Billing code 3395-F2-P